DEPARTMENT OF ENERGY

Bonneville Power Administration

Electrical Interconnection of the Golden Hills Wind Project

AGENCY: Bonneville Power Administration (BPA), Department of Energy (DOE).

ACTION: Notice of availability of Record of Decision (ROD).

SUMMARY: The Bonneville Power Administration (BPA) has decided to offer BP Alternative Energy North America, Inc. a Large Generator Interconnection Agreement for interconnection of up to 200 megawatts of power into the Federal Columbia River Transmission System. The power would be generated by the Golden Hills Wind Project (Wind Project) in Sherman County, Oregon. To interconnect the Wind Project, BPA will string a jumper line at an existing transmission tower outside Klondike Schoolhouse Substation and connect to BPA's Biglow Canyon—Klondike Schoolhouse No. 2 230-kilovolt line. BPA will also purchase part of Portland General Electric's Biglow Canyon Substation, as well as about 1 acre of land next to Biglow Canyon Substation for the expansion of the substation to accommodate new equipment, including a new transmission tower. This new tower will then be connected to an existing transmission tower outside the substation fence. This decision to interconnect the Wind Project is consistent with and tiered to BPA's Business Plan Environmental Impact Statement (DOE/EIS-0183, June 1995), and the Business Plan Record of Decision (BP ROD, August 1995).

ADDRESSES: Copies of this tiered ROD and the Business Plan EIS may be obtained by calling BPA's toll-free document request line, 1-800-622-4520. The RODs and EIS are also available on our Web site, http://www.efw.bpa.gov.

FOR FURTHER INFORMATION CONTACT: Gene Lynard, Bonneville Power Administration—KEC-4, P.O. Box 3621, Portland, Oregon, 97208-3621; toll-free telephone number 1-800-622-4519; fax number 503-230-5699; or e-mail gplynard@bpa.gov.

Issued in Portland, Oregon, on August 13, 2009.
Stephen J. Wright,
Administrator and Chief Executive Officer.

[FR Doc. E9-20303 Filed 8-21-09; 8:45 am]

BILLING CODE 6450-01-P